DEPARTMENT OF ENERGY

Federal Energy Regulatory Commission

[Docket No. PR00-9-004]

Gulfterra Texas Pipeline, LP; Notice of Cancellation of Technical Conference

January 4, 2005.

Take notice that the Technical Conference scheduled for Thursday, January 6, 2005 at 1:30 p.m. (e.s.t.), at the Federal Energy Regulatory Commission's Headquarters has been canceled.

Magalie R. Salas,
Secretary.

[FR Doc. E5-46 Filed 1-10-05; 8:45 am]

BILLING CODE 6717-01-P